INTERNATIONAL TRADE COMMISSION

[Investigation No. 332-504]

India: Effects of Tariffs and Nontariff Measures on U.S. Agricultural Exports

AGENCY: United States International Trade Commission.

ACTION: Institution of investigation and scheduling of hearing.

SUMMARY: Following receipt on January 13, 2009, of a request from the United States Senate Committee on Finance (Committee) under section 332(g) of the Tariff Act of 1930 (19 U.S.C. 1332(g)), the U.S. International Trade Commission (Commission) instituted investigation No. 332-504, India: Effects of Tariffs and Nontariff Measures on U.S. Agricultural Exports.

DATES: March 24, 2009: Deadline for filing requests to appear at the public hearing.

April 2, 2009: Deadline for filing prehearing briefs and statements.

April 21, 2009: Public hearing.

April 28, 2009: Deadline for filing posthearing briefs and statements.

June 26, 2009: Deadline for filing all other written submissions.

November 12, 2009: Transmittal of Commission report to the Committee.

ADDRESSES: All Commission offices, including the Commission's hearing rooms, are located in the United States International Trade Commission Building, 500 E Street, SW., Washington, DC. All written submissions should be addressed to the Secretary, United States International Trade Commission, 500 E Street, SW., Washington, DC 20436. The public record for this investigation may be viewed on the Commission's electronic docket (EDIS) at http://www.usitc.gov/secretary/edis.htm.

FOR FURTHER INFORMATION CONTACT: Project leader George Serletis (202-205-3315 or george.serletis@usitc.gov) or deputy project leader Brian Allen (202-205-3034 or brian.allen@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: As requested by the Committee, the Commission will conduct an investigation and prepare a report on the effects of tariffs and nontariff measures on U.S. agricultural exports to India. As requested, to the extent possible, the report will include—

(1) An overview of the Indian agricultural market, including recent trends in consumption, imports, and domestic supply;

(2) a description of the principal measures affecting Indian agricultural imports, including tariffs, sanitary and phytosanitary measures, food regulations, packaging and labeling requirements, pricing policies, intellectual property policies, and customs procedures;

(3) information on Indian government regulations, including state regulations, covering agricultural markets and foreign direct investment affecting U.S. agricultural products in India;

(4) an evaluation of the impact of India's food marketing and distribution system, including market structure, transportation infrastructure, and cold-storage capacity, on U.S. agricultural products in the Indian market; and

(5) a quantitative analysis of the economic effects of Indian tariffs, and to the extent possible, nontariff measures on U.S. agricultural exports to India.

The Committee requested that the Commission deliver its report 10 months after receipt of the request letter, or by November 12, 2009.

Public Hearing: A public hearing in connection with this investigation will be held at the U.S. International Trade Commission Building, 500 E Street, SW., Washington, DC, beginning at 9:30 a.m. on Tuesday, April 21, 2009. Requests to appear at the public hearing should be filed with the Secretary no later than 5:15 p.m., March 24, 2009, in accordance with the requirements in the “Submissions” section below. All prehearing briefs and statements should be filed not later than 5:15 p.m., April 2, 2009; and all posthearing briefs and statements responding to matters raised at the hearing should be filed not later than 5:15 p.m., April 28, 2009. In the event that, as of the close of business on March 24, 2009, no witnesses are scheduled to appear at the hearing, the hearing will be canceled. Any person interested in attending the hearing as an observer or nonparticipant may call the Office of the Secretary (202-205-2000) after March 24, 2009, for information concerning whether the hearing will be held.

Written Submissions: In lieu of or in addition to participating in the hearing, interested parties are invited to file written submissions concerning this investigation. All written submissions should be addressed to the Secretary, and all such submissions (other than pre- and post-hearing briefs and statements) should be received not later than 5:15 p.m., June 26, 2009. All written submissions must conform with the provisions of section 201.8 of the Commission's Rules of Practice and Procedure (19 CFR 201.8). Section 201.8 requires that a signed original (or a copy so designated) and fourteen (14) copies of each document be filed. In the event that confidential treatment of a document is requested, at least four (4) additional copies must be filed, in which the confidential information must be deleted (see the following paragraph for further information regarding confidential business information). The Commission's rules authorize filing submissions with the Secretary by facsimile or electronic means only to the extent permitted by section 201.8 of the rules (see Handbook for Electronic Filing Procedures, http://www.usitc.gov/secretary/fed_reg_notices/rules/documents/handbook_on_electronic_filing.pdf). Persons with questions regarding electronic filing should contact the Office of the Secretary (202-205-2000).

Any submissions that contain confidential business information must also conform with the requirements of section 201.6 of the Commission's Rules of Practice and Procedure (19 CFR 201.6). Section 201.6 of the rules requires that the cover of the document and the individual pages be clearly marked as to whether they are the “confidential” or “nonconfidential” version, and that the confidential business information be clearly identified by means of brackets. All written submissions, except for confidential business information, will be made available for inspection by interested parties.

In its request letter, the Committee stated that it intends to make the Commission's report available to the public in its entirety, and asked that the Commission not include any confidential business information in the report it sends to the Committee. Any confidential business information received by the Commission in this investigation and used in preparing this report will not be published in a manner that would reveal the operations of the firm supplying the information.

Issued: February 9, 2009.
By order of the Commission.
Marilyn R. Abbott,
Secretary to the Commission.

[FR Doc. E9-3079 Filed 2-12-09; 8:45 am]

BILLING CODE 7020-02-P